DEPARTMENT OF AGRICULTURE

Agricultural Marketing Service

[Docket Number FV-04-306]

United States Standards for Grades of Watermelons

AGENCY: Agricultural Marketing Service, USDA.

ACTION: Notice.

SUMMARY: The Agricultural Marketing Service (AMS) of the Department of Agriculture (USDA) is revising the United States Standards for Grades of Watermelons. Specifically, AMS is revising the standard to include a definition for seedless watermelons and a variance to the size requirements. This action is being taken based on a request by the National Watermelon Association (NWA). This change will bring the standards for watermelons in line with current marketing practices, thereby, improving the usefulness of the standards in serving the industry.

DATES: Effective Date: March 23, 2006.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The revised United States Standards for Grades of Watermelons will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements no longer appear in the Code of Federal Regulations, but are maintained by USDA/AMS/Fruit and Vegetable Programs.

AMS is revising the voluntary United States Standards for Grades of Watermelons using procedures that appear in part 36, Title 7 of the Code of Federal Regulations (7 CFR part 36). These standards were last revised in 1978.

Background

AMS received a petition from the NWA requesting the United States Standards for Grades of Watermelons be revised to include a definition for seedless watermelons and a variance to the size requirements. Prior to undertaking detailed work to develop the proposed revision to the standards, AMS published a notice on April 22, 2004, in the Federal Register (69 FR 21812) requesting comments on the petition to revise the United States Standards for Grades of Watermelons which included watermelons with 16 or less mature seeds in the definition for seedless watermelons and proposed adding an allowance for watermelons to vary 3 pounds above the average weight. In response to our request for comments, AMS received one comment from an industry group supporting the proposed revision. On October 29, 2004, AMS published a notice in the Federal Register (69 FR 209) proposing to revise the standards. In response to this notice, AMS received two comments, one from an industry group representing receivers and one comment from a consumer. Both commenters supported a modified version of the proposed revision of the standards. Both commenters supported the inclusion of a definition for seedless watermelons with a lower number of allowable seed count. The commenter representing receivers supported the inclusion of a 3 pound variance in the size requirements, while the other commenter supported a 1 pound variance. After further consideration, NWA submitted a second petition amending the seedless watermelon definition in their original petition. On September 7, 2005, AMS published a notice in the Federal Register (70 FR 172) proposing to revise the standards based on the amended petition which provided for 10 instead of a 16 mature seeds or less. The comments are available by accessing the AMS, Fresh Products Branch Web site at: http://www.ams.usda.gov/fv/fpbdocketlist.htm.

With regard to the numbers of mature seeds AMS believes that 10 mature seeds or less best reflects current marketing practices. Further, a 3 pound variance above the stated average weight rather than a 1 pound is consistent within the size requirements as the standard currently allows watermelons to vary 3 pounds below the stated weight. According, AMS believes the revision to the standards for watermelons is warranted as the revision will bring the standards in line with current marketing practices, thereby, improving the usefulness of the standards in serving the industry.

The official grade of a lot of watermelons covered by these standards will be determined by the procedures set forth in the Regulations Governing Inspection, Certification, and Standards of Fresh Fruits, Vegetables and Other Products (Sec. 51.1 to 51.61).

The United States Standards for Grades of Watermelons will become effective 30 days after the publication of this notice in the Federal Register.

Authority: 7 U.S.C. 1621-1627.

Dated: February 13, 2006.
Lloyd C. Day,
Administrator, Agricultural Marketing Service.

[FR Doc. E6-2385 Filed 2-17-06; 8:45 am]

BILLING CODE 3410-02-P